DEPARTMENT OF TRANSPORTATION

Surface Transportation Board

[Docket No. FD 35452]

Wichita, Tillman & Jackson Railway Company—Lease Renewal Exemption—Union Pacific Railroad Company

Wichita, Tillman & Jackson Railway Company (WTJR) has filed a verified notice of exemption to renew its lease of approximately 40.48 miles of rail line consisting of two unconnected segments: ¹ (1) The Western Branch, owned by Union Pacific Railroad Company (UP),² extending between milepost 0.99 at Wichita Falls, Tex., and approximately milepost 17.54 near Burkburnett, Tex., at the Texas-Oklahoma state line; and (2) the Walters Industrial Lead, owned by the Oklahoma Department of Transportation, extending between milepost 513.50 at Walters, Okla., and milepost 537.43 at Waurika, Okla. The current lease agreement is scheduled to expire on January 12, 2011.³

¹ WTJR was authorized to lease and operate the rail lines in Wichita, Tillman & Jackson Railway Company—Lease and Operation Exemption—Missouri Pacific Railroad Company, Docket No. FD 31787 (ICC served Jan. 8, 1991).

² The Western Branch was previously owned by Missouri Pacific Railroad Company (MP). Upon UP's acquisition of MP, UP assumed the lease agreement.

³ According to WTJR, the current agreement provides for an automatic 20-year extension if applicant provides proper written notice. WTJR submitted a copy of a renewal of lease agreement which it has also forwarded to UP.

The transaction is related to a concurrently filed notice of exemption wherein WTJR seeks to renew its lease of 61.02 miles of the Western Branch in Oklahoma owned by the Oklahoma Department of Transportation. Wichita, Tillman & Jackson Railway Company—Lease Renewal Exemption—Oklahoma Department of Transportation, FD 35451.

This notice is filed under 49 CFR 1180.2(d)(4). If the verified notice contains false or misleading information, the exemption is void ab initio. Petitions to revoke the exemption under 49 U.S.C. 10502(d) may be filed at any time. The filing of a petition to revoke will not automatically stay the transaction.

As a condition to the use of this exemption, any employees affected by this transaction will be protected by the conditions imposed in Norfolk and Western Railway—Trackage Rights—Burlington Northern, Inc., 354 I.C.C. 605 (1978), as modified in Mendocino Coast Railway—Lease and Operate—California Western Railroad, 360 I.C.C. 653 (1980).

An original and 10 copies of all pleadings, referring to Docket No. FD 35452, must be filed with the Surface Transportation Board, 395 E Street, SW., Washington, DC 20423-0001. In addition, a copy of each pleading must be served on Karl Morell, Suite 225, 1455 F Street, NW., Washington, DC 20005.

Board decisions and notices are available on our Web site at http://www.stb.dot.gov.

Decided: December 17, 2010.
By the Board, Rachel D. Campbell, Director, Office of Proceedings.
Andrea Pope-Matheson,
Clearance Clerk.

[FR Doc. 2010-32290 Filed 12-22-10; 8:45 am]

BILLING CODE 4915-01-P